FEDERAL COMMUNICATIONS COMMISSION

47 CFR Part 73

[DA 01-2736; MM Docket No. 01-323; RM-10337]

Television Broadcasting Services; Vernal and Santaquin, UT; and Ely and Caliente, NV

AGENCY: Federal Communications Commission.

ACTION: Proposed rule.

SUMMARY: This document requests comments on a petition for rulemaking jointly filed on behalf of petitioners TV 6, L.L.C., permittee of VHF TV Station KBCJ, NTSC Channel 6, Vernal, Utah (BPCT-960919KG), and by Kaleidoscope Foundation, Inc., permittee of VHF TV Station KBNY, NTSC Channel 6, Ely, Nevada (BPET-970331LN). Petitioners request the reallotment of NTSC Channel 6 from Vernal to Santaquin, Utah and reallotment of NTSC Channel 6 from Ely to Caliente, Nevada as the communities' first local television transmission services and modification of the their authorizations accordingly, pursuant to the provisions of section 1.420(i) of the Commission's rules. Coordinates to be used for NTSC Channel 6 at Santaquin are North Latitude 39-43-58 and West Longitude 111-56-34; and those to be used for NTSC Channel 6 at Caliente are North Latitude 37-47-00 and West Longitude 114-30-00. The DTV Table of Allotments contained in section 73.622(b) of the Commission's rules is not affected by the requested reallotments as there is no paired DTV channel for either Vernal or Ely.

DATES: Comments must be filed on or before January 14, 2002, and reply comments on or before January 29, 2002.

ADDRESSES: Federal Communications Commission, Washington, DC 20554. In addition to filing comments with the FCC, interested parties should serve the petitioner's counsel, as follows:

Mark N. Lipp, Esq., Shook, Hardy & Bacon, 600 14th Street, N.W., Suite 800, Washington, DC 20005

FOR FURTHER INFORMATION CONTACT: J. Bertron Withers, Jr., Mass Media Bureau, (202) 418-2180.

SUPPLEMENTARY INFORMATION: This is a synopsis of the Commission's Notice of Proposed Rulemaking, MM Docket No. 01-323, adopted November 14, 2001, and released November 23, 2001. The full text of this Commission decision is available for inspection and copying during normal business hours in the FCC's Reference Center (Room CY-A257), 445 12th Street, SW., Washington, DC. The complete text of this decision may also be purchased from the Commission's copy contractor, Qualtex International, Portals II, 425 12th Street, SW., Room CY-B402, Washington, DC 20554, telephone (202) 863-2893, facsimile 202-863-2898, or via e-mail qualexint@aol.com.

Provisions of the Regulatory Flexibility Act of 1980 do not apply to this proceeding. Members of the public should note that from the time a Notice of Proposed Rulemaking is issued until the matter is no longer subject to Commission consideration or court review, all ex parte contacts are prohibited in Commission proceedings, such as this one, which involve channel allotments. See 47 CFR 1.1204(b) for rules governing permissible ex parte contacts. For information regarding proper filing procedures for comments, see 47 CFR 1.415 and 1.420.

List of Subjects in 47 CFR Part 73

Television broadcasting.

For the reasons discussed in the preamble, the Federal Communications Commission proposes to amend part 73 of Title 47 of the Code of Federal Regulations as follows:

PART 73—TELEVISION BROADCAST SERVICES

1. The authority citation for part 73 reads as follows:

Authority: 47 U.S.C. 154, 303, 334, and 336.

§ 73.606 [Amended]

2. Section 73.606(b), the Table of TV Allotments under Utah, is amended by adding Santaquin, NTSC Channel 6 and removing NTSC Channel 6 at Vernal.

3. Section 73.606(b), the Table of TV Allotments under Nevada, is amended by adding Caliente, NTSC Channel 6+ and removing NTSC Channel 6+ at Ely.

Federal Communications Commission.
John A. Karousos,
Chief, Allocations Branch, Policy and Rules Division, Mass Media Bureau.

[FR Doc. 01-31187 Filed 12-17-01; 8:45 am]

BILLING CODE 6712-01-P